DEPARTMENT OF COMMERCE

International Trade Administration

Calendar of June 2018 Approved International Trade Administration Trade Missions

AGENCY: International Trade Administration, Department of Commerce.

ACTION: Notice.

SUMMARY: The United States Department of Commerce, International Trade Administration (ITA) is announcing three upcoming trade missions that will be recruited, organized, and implemented by ITA. These missions are:

• Healthcare Technologies Trade Mission to Saudi Arabia, Kuwait, and Qatar—April 6-11, 2019

• Horizontal Trade Mission to Argentina, Uruguay, Paraguay, Bolivia and Chile in Conjunction with Trade Americas—Business Opportunities in the Southern Cone Region Conference—March 24-29, 2019

• Horizontal Trade Mission to Central America in conjunction with the Trade Americas—Business Opportunities in Central America Conference—August 18-23, 2019

A summary of each mission is found below. Application information and more detailed mission information, including the commercial setting and sector information, can be found at the trade mission website: http://export.gov/trademissions.

For each mission, recruitment will be conducted in an open and public manner, including publication in the Federal Register, posting on the Commerce Department trade mission calendar (http://export.gov/trademissions) and other internet websites, press releases to general and trade media, direct mail, broadcast fax, notices by industry trade associations and other multiplier groups, and publicity at industry meetings, symposia, conferences, and trade shows.

The Following Conditions for Participation Will Be Used for Each Mission

Applicants must submit a completed and signed mission application and supplemental application materials, including adequate information on their products and/or services, primary market objectives, and goals for participation. If the Department of Commerce receives an incomplete application, the Department may either: Reject the application, request additional information/clarification, or take the lack of information into account when evaluating the application. If the requisite minimum number of participants is not selected for a particular mission by the recruitment deadline, the mission may be cancelled.

Each applicant must also certify that the products and services it seeks to export through the mission are either produced in the United States, or, if not, are marketed under the name of a U.S. firm and have at least fifty-one percent U.S. content by value. In the case of a trade association or organization, the applicant must certify that, for each firm or service provider to be represented by the association/organization, the products and/or services the represented firm or service provider seeks to export are either produced in the United States or, if not, marketed under the name of a U.S. firm and have at least 51% U.S. content.

A trade association/organization applicant must certify to the above for all of the companies it seeks to represent on the mission.

In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for Each Mission

Targeted mission participants are U.S. firms, services providers and trade associations/organizations providing or promoting U.S. products and services that have an interest in entering or expanding their business in the mission's destination country. The following criteria will be evaluated in selecting participants:

• Suitability of the applicant's (or in the case of a trade association/organization, represented firm or service provider's) products or services to these markets;

• The applicant's (or in the case of a trade association/organization, represented firm or service provider's) past, present, and prospective business activity in relation to the Mission's target market(s) and sector(s);

• The applicant's (or in the case of a trade association/organization, represented firm or service provider's) potential for business in the markets, including likelihood of exports resulting from the mission; and

• Consistency of the applicant's (or in the case of a trade association/organization, represented firm or service provider's) goals and objectives with the stated scope of the mission.

Referrals from a political party or partisan political group or any information, including on the application, containing references to political contributions or other partisan political activities will be excluded from the application and will not be considered during the selection process. The sender will be notified of these exclusions.

Trade Mission Participation Fees

If and when an applicant is selected to participate on a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such visas will be the responsibility of the mission participant. Government fees and processing expenses to obtain such visas are not included in the participation fee. However, the Department of Commerce will provide instructions to each participant on the procedures required to obtain business visas.

Trade Mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Definition of Small and Medium Sized Enterprise

For purposes of assessing participation fees, the Department of Commerce defines Small and Medium Sized Enterprises (SME) as a firm with 500 or fewer employees or that otherwise qualifies as a small business under SBA regulations (see http://www.sba.gov/services/contractingopportunities/sizestandardstopics/index.html). Parent companies, affiliates, and subsidiaries will be considered when determining business size.

Mission List: (additional information about each mission can be found at http://export.gov/trademissions).

Healthcare Technologies Trade Mission to Saudi Arabia, Kuwait, and Qatar—April 6-11, 2019

Summary

The United States Department of Commerce, International Trade Administration (ITA), is organizing a Healthcare Technologies Trade Mission to Saudi Arabia, Kuwait, and Qatar from April 6-11, 2019. The purpose of the mission is to introduce U.S. firms to the rapidly expanding healthcare sectors in these three countries and to assist U.S. companies in pursuing opportunities in these sectors.

Target sectors holding high potential for U.S companies include:

• Home healthcare and rehabilitation

• Medical devices

• Trauma care and training

• Emergency services, training, equipment and supplies

• Hospital operation and management

• Healthcare training and staffing services

• Healthcare education

• Health information technology

The mission will help participating U.S. firms and associations/organizations gain market insights, make industry and government contacts, solidify business strategies and advance specific projects with the goal of increasing U.S. healthcare products and services exports. The trade mission will start in Riyadh, Saudi Arabia, where participants will receive market briefings from U.S. Commercial Service and industry experts, hold one-on-one business meetings, meet with Saudi government officials and organizations, and participate in networking events. The trade mission participants will next travel to Kuwait and subsequently Qatar, where they will have additional opportunities to meet with key contacts and decision makers. Participating in an official U.S. industry delegation, rather than traveling on their own, will enhance the companies' abilities to identify opportunities and meet with local healthcare officials in Saudi Arabia, Kuwait and Qatar.

Schedule
Saturday—April 6, Riyadh, Saudi Arabia | • Arrive Riyadh and hotel check-in. • Welcome reception/ice breaker.
Sunday—April 7, Riyadh, Saudi Arabia | • Welcome and overview of Trade Mission (TM). • Market briefings from the U.S. Commercial Service and industry experts.
| • One-on-one business meetings.
| • Networking reception in Riyadh.
Monday—April 8, Riyadh and Kuwait City | • Government meetings. • Travel to Kuwait.
Tuesday—April 9, Kuwait City | • Market briefing. • One-on-one business meetings.
| • Government meetings.
| • Networking reception.
Wednesday—April 10, Kuwait City and Doha | • Additional meetings. • Depart for Doha.
| • Networking reception in Doha.
Thursday—April 11, Doha | • Market briefing. • Government meetings.
| • One-on-one business meetings.
| • Mission ends.

Participation Requirements

All parties interested in participating in the trade mission must complete and submit an application package for consideration by the U.S. Department of Commerce. All applicants will be evaluated on their ability to meet certain conditions and best satisfy the selection criteria as outlined below and will be notified whether they are chosen to participate in the mission. A minimum of 12 and maximum of 15 companies and/or trade associations/organizations will be selected from the applicant pool to participate in the trade mission.

Fees and Expenses

The participation fee for the trade mission to Saudi Arabia, Kuwait, and Qatar is $3,800 for small or medium-sized enterprises (SME) and $4,900 for large companies. The fee for each additional representative (large firm or SME or trade association/organization) is $750.

Timeline for Recruitment

Recruitment for the mission will begin immediately and conclude no later than February 15, 2019. The U.S. Department of Commerce will review applications and make selection decisions on a rolling basis beginning September 10, 2018 until the maximum of 15 participants is selected. Applications received after February 15, 2019, will be considered only if space and scheduling constraints permit.

Contacts

Melissa Hill, U.S. Department of Commerce, New York, NY, Tel: 212-471-0062, Email: Melissa.hill@trade.gov.

Kuwait City, Kuwait

Yousif Almahadi, U.S. Commercial Service—Kuwait, Tel: +96522591487, Email: Yousif.almahadi@trade.gov.

Riyadh, Saudi Arabia

Nasir Abbasi, U.S. Commercial Service—Riyadh, Tel: +603-2168-4869, Email: Nasir.Abbasi@trade.gov.

Jeff Hamilton, U.S. Commercial Service—Kuwait, Tel: +965-2259-1354, Email: Jeff.Hamilton@trade.gov.

Maher Siblini, U.S. Commercial Service—Riyadh, Tel: +966-11-488-3800 x 4302, Email: maher.siblini@trade.gov.

Doha, Qatar

Anissa Lahreche, U.S. Commercial Service—Qatar, Tel: 974-488-4101 x6040, Email: Anissa.Lahreche@trade.gov.

Ilona Shtrom, U.S. Commercial Service—Qatar, Tel: 974- 696-6739, Email: Ilona.shtrom@trade.gov.

Horizontal Trade Mission to Central America in Conjunction With the Trade Americas—Business Opportunities in Central America Conference—August 18-23, 2019

Summary

The United States Department of Commerce, International Trade Administration is organizing a trade mission to Central America that will include the Trade Americas—Business Opportunities in Central America Conference in Washington, DC on August 18-23, 2019.

U.S. trade mission delegation participants will arrive in Washington, DC on or before August 18 to attend the opening reception for the Trade Americas—Business Opportunities in Central America Conference, which is also open to U.S. companies not participating in the trade mission. Trade mission participants will attend the Conference on August 19. Following the morning session of the conference, trade mission participants will participate in one-on-one consultations with U.S. and Foreign Commercial Service (US&FCS) Commercial Officers and/or Department of State Economic/Commercial Officers from the following U.S. Embassies in the region: Costa Rica, El Salvador, Honduras, Guatemala, Belize, Nicaragua, and Panama. The following day, August 20, trade mission participants will travel to engage in business-to-business appointments, each of which will be with a pre-screened potential buyer, agent, distributor or joint-venture partner, in up-to two markets in the Central America Region.

The Department of Commerce's Trade Americas—Business Opportunities in Central America Conference will focus on regional and industry-specific sessions, market entry strategies, legal, logistics, and trade financing resources as well as pre-arranged one-one-one consultations with US&FCS Commercial Officers and/or Department of State Economic/Commercial Officers with expertise in commercial markets throughout the region.

The mission is open to U.S. companies and trade associations/organizations from a cross section of industries with growing potential in Central America, but is focused on U.S. companies representing best prospects sectors such as infrastructure and construction, safety & security, auto parts and service equipment, renewable energy, energy & oil & gas, medical equipment, and logistics.

The combination of the Trade Americas—Business Opportunities in Central America Conference and business-to-business matchmaking opportunities in seven Central American countries will provide participants with access to substantive information on strategies for entering or expanding their business across the Central America region.

Proposed Timetable

August 18 Travel Day/Arrive in Washington, DC

Afternoon: Registration, Market Briefings, and U.S. Embassy Officer Consultations, Evening: Networking Reception

August 19 Washington, DC

Morning: Registration and Trade Americas—Business Opportunities in Central America Conference, Afternoon: U.S. Embassy Officer Consultations, Evening: Networking Reception

Optional

August 20-23 Travel and Business-to-Business Meetings in (choice of up to two markets):

Option (A) Costa Rica. Option (B) Guatemala. Option (C) El Salvador. Option (D) Belize. Option (E) Nicaragua. Option (F) Honduras. Option (G) Panama.

August 24 Travel Day. Return to the U.S.

Participation Requirements

All applicants must sign and submit a completed Trade Mission application form and satisfy all of the conditions of participation in order to be eligible for consideration. Applications will be evaluated on the applicant's ability to best satisfy the participation criteria.

A minimum of 20 and a maximum of 40 companies will be selected to participate in the mission. The Department of Commerce will evaluate applications and inform applicants of selection decisions on a rolling basis until the maximum number of participants has been selected. During the registration process, applicants will indicate their markets of choice and will receive a brief market assessment for each of those markets. Applicants can select up-to two markets based on the selection criteria below. Companies that received favorable market opportunities in various markets may be able to participate in business-to-business meetings in a third market, if that post can accommodate those meetings. The number of companies that may be selected for each country are as follows: 20 Companies for Costa Rica, 10 companies for Guatemala, 10 companies for El Salvador; 4 companies for Belize; 10 companies for Honduras; 10 companies for Nicaragua; and 10 companies for Panama. U.S. companies already doing business in, or seeking to enter these markets for the first time may apply.

Fees and Expenses

After a company has been selected to participate in the mission, a payment to the Department of Commerce in the form of a participation fee is required.

For business-to-business meetings in one market, the participation fee will be $2,500 for a small or medium-sized enterprise (SME) * and $3,500 for large firms *.

For business-to-business meetings in two markets, the participation fee will be $3,500 for a small or medium-sized enterprise (SME) [2] * and $4,500 for large firms *.

The mission participation fee includes the Trade Americas—Business Opportunities in Central America Conference registration fee of $500 per participant from each firm.

There will be a $300 fee for each additional firm representative (large firm or SME) that wishes to participate in business-to-business meetings in any of the markets selected.

Timeframe for Recruitment and Application

Recruitment for the mission will begin immediately and conclude no later than Friday, May 31, 2019. The U.S. Department of Commerce will review applications and make selection decisions on a rolling basis until the maximum of 40 participants are selected. After Friday, May 31, 2019, companies will be considered only if space and scheduling constraints permit.

Contacts

U.S. Trade Americas Team Contact Information

Diego Gattesco, Director, U.S. Commercial Service—Wheeling, WV, Diego.Gattesco@trade.gov, Tel: 304-243-5493.

Delia Valdivia, Senior International Trade Specialist, U.S. Commercial Service—Los Angeles (West), CA, delia.valdivia@trade.gov, Tel: 310-235-7203.

Central America Region Contact Information

Eric B. Wolff, Regional Senior Commercial Officer, U.S. Commercial Service—Costa Rica, Eric.Wolff@trade.gov, Tel: 506-519-2293.

Horizontal Trade Mission to the Americas Southern Cone Region in Conjunction With Trade Americas—Business Opportunities in the Southern Cone Region Conference March 24-29, 2019

Summary

The United States Department of Commerce, International Trade Administration is organizing a trade mission to Argentina, Uruguay, Paraguay, Bolivia and Chile (Southern Cone Region) that will include the Trade Americas—Business Opportunities in the Southern Cone Region Conference in Buenos Aires, Argentina. Trade mission participants will arrive in Buenos Aires on or before March 24rd, and will attend a mission briefing, and will engage in one-on-one consultations with U.S. and Foreign Commercial Service (US&FCS) Commercial Officers and/or Economic/Commercial Officers from the following U.S. Embassies in the Southern Cone region: Argentina, Uruguay, Paraguay, Bolivia and Chile as well as key service providers and resources. On March 25th, following the morning session of the Trade Americas—Business Opportunities in the Southern Cone Region Conference, mission participants will meet again one-on-one with Commercial Officers and will network with foreign buyers in the evening. The following day, March 26th, selected trade mission participants will engage in business-to-business appointments in Argentina, or will travel to one or up-to two markets in the Southern Cone Region. All business-to-business appointments in the region will be with a pre-screened potential buyer, agent, distributor or joint-venture partner.

The Department of Commerce's Trade Americas—Business Opportunities in the Southern Cone Region Conference will focus on regional specific sessions, market access, logistics and trade financing resources as well as pre-arranged one-one-one consultations with US&FCS Commercial Officers and/or Department of State Economic/Commercial Officers with expertise in commercial markets throughout the region.

The mission is open to U.S. companies and trade associations/organizations from a cross section of industries with growing potential in the Southern Cone Region, but is focused on U.S. companies representing best prospects sectors such as infrastructure and construction, architecture services, engineering services, construction equipment, building products, airports, ports, transportation, housing, environmental technologies, safety & security, energy & oil & gas, mining equipment, medical equipment, aerospace & defense, ICT & digital services and logistics.

The combination of participation in the Trade Americas—Business Opportunities in the Southern Cone Region Conference and business-to-business matchmaking appointments in five countries, will provide participants with access to substantive information about and strategies for entering or expanding their business across the Southern Cone region.

Schedule

March 23, 2019 Travel Day/Arrival in Buenos Aires. Optional Local Tour

March 24, 2019 Buenos Aires, Argentina. Afternoon: Registration, Briefing and U.S. Embassy Officer Consultations. Evening: Networking Reception.

March 23, 2019 Travel Day/Arrival in Buenos Aires. Optional Local Tour

March 25, 2019 Buenos Aires, Argentina. Morning: Registration and Trade Americas—Business Opportunities in the Southern Cone Region Conference. Afternoon: U.S. Embassy Officer Consultations. Evening: Networking Reception.

Optional

March 26-29, 2019 Travel and Business-to-Business Meetings in (choice of two markets):

Option (A) Argentina. Option (B) Bolivia. Option (C) Chile. Option (D) Paraguay. Option (E) Uruguay

March 30, 2019 Travel Day.

Participation Requirements

All applicants must sign and submit a completed Trade Mission application form and satisfy all of the conditions of participation in order to be eligible for consideration. Applications will be evaluated on the applicant's ability to best satisfy the participation criteria.

A minimum of 20 and a maximum of 40 companies will be selected to participate in the mission. The Department of Commerce will evaluate applications and inform applicants of selection decisions on a rolling basis until the maximum number of participants has been selected. During the registration process, applicants will indicate their markets of choice and will receive a brief market assessment for each of those markets. Applicants can select up-to two markets based on the selection criteria below. Companies that received favorable market opportunities in various markets may be able to participate in business-to-business meetings in a third market, if that post can accommodate those meetings. The number of companies that may be selected for each country are as follows: 25 Companies for Argentina, 5 companies for Bolivia; 15 companies for Chile; 8 companies for Paraguay; and 5 companies for Uruguay. U.S. companies already doing business in, or seeking to enter these markets for the first time may apply.

Fees and Expenses

After a company has been selected to participate in the mission, a payment to the Department of Commerce in the form of a participation fee is required.

For business-to-business meetings in one market, the participation fee will be $2,800 for a small or medium-sized enterprise (SME) * and $3,800 for large firms *.

For business-to-business meetings in two markets, the participation fee will be $3,800 for a small or medium-sized enterprise (SME) [2] * and $4,800 for large firms *.

The mission participation fee includes the Trade Americas—Business Opportunities in the Southern Cone Region Conference registration fee of $500 per participant from each firm.

There will be a $300 fee for each additional firm representative (large firm or SME) that wishes to participate in business-to-business meetings in any of the markets selected.

Timeframe for Recruitment and Application

Recruitment for the mission will begin immediately and conclude no later than Friday, January 18, 2019. The U.S. Department of Commerce will review applications and make selection decisions on a rolling basis until the maximum of 40 participants are selected. After January 18, 2019, companies will be considered only if space and scheduling constraints permit.

Contacts

U.S. Trade Americas Team Contact Information

Diego Gattesco, Director, U.S. Commercial Service—Wheeling, WV, Diego.Gattesco@trade.gov, Tel: 304-243-5493.

Dakshina Voetsch, Argentina Desk Officer, U.S. Commercial Service—Washington, DC, Dakshina.Voetsch@trade.gov, Tel: 202-482-470.

Southern Cone Region Contact Information

Rick de Lambert, Regional Senior Commercial Officer, U.S. Commercial Service—U.S. Embassy, Buenos Aires, Argentina, Rick.DeLambert@trade.gov.

Tiara Hampton-Diggs,
Trade Promotion Programs.

[FR Doc. 2018-20805 Filed 9-24-18; 8:45 am]

BILLING CODE 3510-DR-P